DEPARTMENT OF ENERGY

Federal Energy Regulatory Commission

[Docket No. CP17-101-000]

Transcontinental Gas Pipe Line Company, LLC; Notice of Draft General Conformity Determination for the Northeast Supply Enhancement Project

The staff of the Federal Energy Regulatory Commission (FERC or Commission) has prepared a draft general conformity determination (GCD) for the Northeast Supply Enhancement Project (Project) proposed by Transcontinental Gas Pipe Line Company, LLC (Transco) in the above-referenced docket. The draft GCD assesses the potential air quality impacts associated with the construction and operation of natural gas facilities to provide about 400 million standard cubic feet of natural gas per day to Brooklyn Union Gas Company and KeySpan Gas East Corporation (collectively referred to as National Grid) to serve residential and commercial customers in the New York City area beginning in the 2020/heating season.

The draft GCD was prepared to satisfy the requirements of the Clean Air Act. The FERC staff concludes that the Project would achieve conformity in New York and New Jersey through direct mitigation and the purchase of emission reduction credits. The draft GCD addresses the potential air quality impacts from construction and operation of the following relevant subset of Project facilities:

• A 3.4-mile-long, 26-inch-diameter pipeline loop ¹ in Middlesex County, New Jersey (Madison Loop);

¹ A pipeline “loop” is a segment of pipe constructed parallel to an existing pipeline to increase capacity.

• a 23.5-mile long, 26-inch-diameter pipeline loop comprised of a 0.2-mile-long segment in onshore Middlesex County, New Jersey, and a 23.3-mile-long segment in the offshore waters of Middlesex and Monmouth Counties, New Jersey and Queens and Richmond Counties, New York (Raritan Bay Loop); and

• a new 32,000 horsepower natural gas-fired compressor station in Somerset County, New Jersey (Compressor Station 206).

The draft GCD identifies that the Project is located within the NY-NJ-CT Interstate air quality control region (AQCR). The Clean Air Act defines nonattainment areas as “any area that does not meet (or that contributes to ambient air quality in a nearby area that does not meet) the national primary or secondary ambient air quality standard for the pollutant”. The draft environmental impact statement explains that in order to achieve improved air quality within a nonattainment area, reductions are required throughout the entire AQCR. The General Conformity Regulations require that offsets be purchased “within the same nonattainment or maintenance area (or a nearby area of equal or higher classification provided the emissions from that area contribute to the violations, or have contributed to violations in the past).” Transco proposes to implement a combination of direct mitigation projects and purchasing emission reduction credits to offset construction emissions nitrogen oxides for the Project. FERC staff will issue the final GCD with the final environmental impact statement on January 25, 2019.

The Commission mailed a copy of the Notice of Availability to federal, state, and local government representatives and agencies; elected officials; environmental and public interest groups; Native American tribes; potentially affected landowners and other interested individuals and groups; and libraries in the Project area. The draft GCD is only available in electronic format. It may be viewed and downloaded using the eLibrary link on the FERC's website. Click on the eLibrary link (https://www.ferc.gov/docs-filing/elibrary.asp), click on General Search, and enter the docket number in the “Docket Number” field, excluding the last three digits (i.e., CP17-101). Be sure you have selected an appropriate date range. For assistance, please contact FERC Online Support at FercOnlineSupport@ferc.gov or toll free at (866) 208-3676, or for TTY, contact (202) 502-8659.

In accordance with the General Conformity Regulations under the Code of Federal Regulations Chapter 40 Part 93.156, the draft GCD is issued for a 30-day comment period. Any person wishing to comment on the draft GCD may do so. To ensure consideration of your comments on the Project, it is important that the Commission receive your comments on or before October 18, 2018.

For your convenience, there are three methods you can use to submit your comments to the Commission. The Commission encourages electronic filing of comments and has expert staff available to assist you at (202) 502-8258 or FercOnlineSupport@ferc.gov. Please carefully follow these instructions so that your comments are properly recorded.

(1) You can file your comments electronically using the eComment feature on the Commission's website (www.ferc.gov) under the link to Documents and Filings. This is an easy method for submitting brief, text-only comments on a project;

(2) You can file your comments electronically by using the eFiling feature on the Commission's website (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the Project docket number (CP17-101-000) with your submission: Kimberly D. Bose, Secretary, Federal Energy Regulatory Commission, 888 First Street NE, Room 1A, Washington, DC 20426.

Additional information about the Project is available from the Commission's Office of External Affairs at (866) 208-FERC or on the FERC website (www.ferc.gov) using the eLibrary link and the Project docket number (e.g., CP17-101). The eLibrary link on the FERC website also provides access to the texts of formal documents issued by the Commission, such as orders, notices, and rulemakings.

Dated: September 18, 2018.
Kimberly D. Bose,
Secretary.

[FR Doc. 2018-20679 Filed 9-21-18; 8:45 am]

BILLING CODE 6717-01-P